DEPARTMENT OF STATE

[Public Notice: 10711]

U.S. Advisory Commission on Public Diplomacy; Notice of Meeting

The U.S. Advisory Commission on Public Diplomacy will hold a public meeting from 10:30 a.m. until 12:00 p.m., Thursday, April 11, 2019, at the U.S. Capitol Visitor Center in Room SVC-209-208 (First St. NE, Washington, DC 20515). The focus of the meeting will be the Department of State's multi-year Public Diplomacy modernization effort.

This meeting is open to the public, including the media and members and staff of governmental and non-governmental organizations. Any requests for a reasonable accommodation for a disability should be sent by email to Michelle Bowen at BowenMC1@state.gov by 5:00 p.m. on Thursday, April 4, 2019. Attendees should plan to arrive for the meeting by 10:15 a.m. to allow for a prompt start.

The U.S. Advisory Commission on Public Diplomacy appraises U.S. government activities intended to understand, inform, and influence foreign publics. The Advisory Commission may conduct studies, inquiries, and meetings, as it deems necessary. It may assemble and disseminate information and issue reports and other publications, subject to the approval of the Chairperson, in consultation with the Executive Director. The Advisory Commission may undertake foreign travel in pursuit of its studies and coordinate, sponsor, or oversee projects, studies, events, or other activities that it deems desirable and necessary in fulfilling its functions.

For more information on the U.S. Advisory Commission on Public Diplomacy, please visit www.state.gov/pdcommission. For more information on the upcoming public meeting, contact the Commission's Designated Federal Official, Jeff Daigle, at DaigleJJ@state.gov.

John J. Daigle,
Designated Federal Official, Advisory Commission on Public Diplomacy, Department of State.

[FR Doc. 2019-05041 Filed 3-18-19; 8:45 am]

BILLING CODE 4710-45-P